DEPARTMENT OF THE INTERIOR

Bureau of Land Management

[BLM_NV_FRN_MO#4500176314]

Notice of Intent To Amend a Resource Management Plan and Prepare an Associated Environmental Assessment; Notice of Realty Action: Proposed Sale of Public Land in Nye County, Nevada

AGENCY: Bureau of Land Management, Interior.

ACTION: Notice of intent; notice of realty action.

SUMMARY: In compliance with the National Environmental Policy Act of 1969, as amended (NEPA), and the Federal Land Policy and Management Act of 1976, as amended (FLPMA), the Bureau of Land Management (BLM) Nevada State Director intends to prepare a Resource Management Plan (RMP) Amendment with an associated Environmental Assessment (EA) for the non-competitive direct sale of 248.74 acres of public land in rural east-central Nye County, Nevada to Foreland Refining Corporation (Foreland) (N-100365/NVNV105851725). The sale would be for no less than the appraised fair market value. The sale would be subject to the applicable provisions of section 203 of FLPMA and the BLM land sale regulations. This notice announces the beginning of the scoping period to solicit public comments and identify issues, provides the planning criteria for public review, and announces a comment period on the proposed realty action offering the sale of public land.

DATES: Interested parties may submit written comments concerning the proposed land sale, scope of the analysis, potential alternatives, and identification of relevant information and studies by August 12, 2024. To afford the BLM the opportunity to consider issues raised by commenters in the Draft RMP Amendment and EA, please ensure your comments are received prior to the close of the 45-day scoping period or 15 days after the last public meeting, whichever is later.

ADDRESSES: You may submit written comments concerning the realty action and on issues and planning criteria related to the proposed RMP Amendment and non-competitive direct sale of public land in Nye County, Nevada, by any of the following methods:

• Website: https://eplanning.blm.gov/eplanning-ui/project/2024259/510.

• Email: egilseth@blm.gov.

• Fax: 775-482-7810.

• Mail: BLM, Tonopah Field Office, P.O. Box 911 (1553 South Main Street), Tonopah, Nevada 89049.

Documents pertinent to this proposal may be examined online at https://eplanning.blm.gov/eplanning-ui/project/2024259/510 and at the Tonopah Field Office.

FOR FURTHER INFORMATION CONTACT: Frederick Marcell, Lead Realty Specialist, Nevada State Office; telephone 202 912-7339; email at fmarcell@blm.gov; or Perry Wickham, Field Manager, telephone 775-482-7801; Tonopah Field Office, P.O. Box 911 (1553 South Main Street), Tonopah, Nevada 89049; email pwickham@blm.gov. Contact Mr. Wickham to have your name added to our mailing list. Individuals in the United States who are deaf, deafblind, hard of hearing, or have a speech disability may dial 711 (TTY, TDD, or TeleBraille) to access telecommunications relay services relay services. Individuals outside the United States should use the relay services offered within their country to make international calls to the point-of-contact in the United States.

SUPPLEMENTARY INFORMATION: This document provides notice that the BLM Nevada State Director proposes to segregate the identified public land and prepare an RMP Amendment with an associated EA for the non-competitive direct sale of public land in Nye County, Nevada, and announces the beginning of the scoping process to seek public input on issues and planning criteria. The RMP Amendment would change the existing 1997 Tonopah Field Office Record of Decision and Approved RMP. The RMP Amendment is being considered to evaluate whether the subject parcel of public land meets the disposal criteria described in section 203 of FLPMA.

Foreland holds a right-of-way grant (N-41035/NVNV105896178) on the northwestern 40-acre portion of the proposed sale parcel, which contains the Eagle Springs Refinery. The purpose of the sale would be to protect existing Eagle Springs Refinery improvements consisting of fencing, underground phone lines, roads, multiple buildings, an on-site water well, propane tank, and septic system, and the refinery's oil delivery/distribution systems for refining operations, and to allow for future expansion of the refinery. The sale would be subject to the applicable provisions of Section 203 of FLPMA and the BLM land sale regulations. The subject parcel was not previously identified for disposal in the RMP; therefore, the BLM must amend the RMP for the proposed sale to proceed.

The BLM will examine the following described public land for disposal suitability:

Mount Diablo Meridian, Nevada,

T. 9 N., R. 56 E.,

Sec. 24, S½NE¼SE¼ and SE¼SE¼;

Sec. 25, E½NE¼.

T. 9 N., R. 57 E.,

Sec. 19, lot 4;

Sec. 30, lots 1 and 2.

The area described contains 248.74 acres, according to the official plats of the surveys on file with the BLM.

Upon publication of this Notice in the Federal Register, the public land described above will be segregated from all forms of appropriation under the public land laws, including the mining laws, except for the sale provisions of FLPMA. The segregation will terminate upon (1) issuance of a conveyance document; (2) publication in the Federal Register terminating the segregation; or (3) two years from publication of this notice, unless extended by the BLM Nevada State Director in accordance with 43 CFR 2711.1-2(d).

In addition, upon publication of this notice and until completion of this sale, the BLM will no longer accept land-use applications affecting the identified public land, except applications to amend previously filed right-of-way applications or existing authorizations to modify grant terms in accordance with 43 CFR 2807.15 and 43 CFR 2886.15.

The BLM will analyze the parcel and develop an EA to evaluate the environmental effects of the proposed RMP Amendment and the sale criteria under FLPMA Section 203(a)(3) and 43 CFR 2710.0-3(a)(3) to ensure the disposal of the tract will serve important public objectives, including for the conveyance out of Federal ownership of a parcel of public land that, because of its location or other characteristics, is difficult and uneconomic to manage as part of the public lands and is not suitable for management by another Federal department or agency. After the BLM has analyzed public scoping comments and prepared the analysis, the EA will be available for a 30-day comment period. The parcel being considered for direct sale is not required for any other Federal purpose. Regulations contained in 43 CFR 2710.0-6(c)(3)(iii) and 2711.3-3(a)(3) make allowances for direct sales where necessary to protect existing equities in the public land and where there is a need to recognize an authorized use such as an existing business that could suffer a substantial economic loss if the tract were purchased by other than the authorized user. The BLM will consider selling this parcel if it is determined that the public interest would best be served by selling the BLM-administered land for the fair market value and ensure the Federal Government receives fair compensation for the sale of the parcel.

The subject parcel is located on both sides of United States Highway 6, which allows access to the area from either Tonopah or Ely, Nevada. The BLM has determined the parcel is not an access point for recreation in accordance with Secretary's Order 3373, Evaluating Public Access in Bureau of Land Management Public Disposal and Exchanges. Disposal of this parcel will have no anticipated impacts on recreational access to adjacent parcels of publicly accessible lands.

The conveyance document, if issued, will contain the following reservations, terms, and conditions:

(1) The reservation of a right-of way thereon for ditches or canals constructed by the authority of the United States, Act of August 30, 1890 (43 U.S.C. 945).

(2) The reservation of all the mineral deposits in the land so patented pursuant to the Act of October 21, 1976 (43 U.S.C. 1719), including, without limitation, substances subject to disposition under the general mining laws, the general mineral leasing laws, the Materials Act, and the Geothermal Steam Act, and to it, its permittees, licensees, lessees, and mining claimants, the right to prospect for, mine, and remove the minerals owned by the United States under applicable law and such regulations as the Secretary of the Interior may prescribe. This reservation includes necessary access and exit rights and the right to conduct all necessary and incidental activities including, without limitation, all drilling, underground, open pit or surface mining operations, storage, and transportation facilities deemed reasonably necessary.

Unless otherwise provided by separate agreement with the surface owner, mining claimants, permittees, licensees, and lessees of the United States shall reclaim disturbed areas to the extent prescribed by regulations issued by the Secretary of the Interior.

All causes of action brought to enforce the rights of the surface owner under the regulations above referred to shall be instituted against mining claimants, permittees, licensees, and lessees of the United States, and the United States shall not be liable for the acts or omissions of its mining claimants, permittees, licensees, and lessees.

(3) The conveyance document would be subject to all valid existing rights.

(4) The parcel is subject to reservations for roads and public utilities.

(5) An appropriate indemnification clause protecting the United States from claims arising out of the patentee's use, occupancy, or occupation on the patented lands.

(6) Additional terms and conditions that the authorized officer deems appropriate.

The BLM will publish this notice once a week for three consecutive weeks in the Tonopah Times-Bonanza & Goldfield News. Comments will be accepted as discussed in the ADDRESSES section above.

Any adverse comments regarding the sale will be reviewed by the BLM Nevada State Director or other authorized official of the Department of the Interior, who may sustain, vacate, or modify this realty action in response to such comments. In the absence of adverse comments, this realty action will become the final determination of the Department of the Interior.

The planning area is in Nye County, Nevada and encompasses approximately 248.74 acres of public land. The scope of this land use planning process does not include addressing the evaluation or designation of areas of critical environmental concern (ACECs), and the BLM is not considering ACEC nominations as part of this process.

Purpose and Need

The purpose of the Federal action is to consider an RMP Amendment to make available by direct sale BLM-administered public lands that are not currently identified for disposal in the Tonopah RMP, as well as to respond to Foreland's request for a FLPMA direct land sale. The need for the action is established by BLM's responsibility under section 203 of FLPMA and 43 CFR 2711.1-1(c) to respond to a request for a land sale, and to ensure compliance with the Tonopah RMP Management Decisions.

Preliminary Alternatives

There are currently no alternatives other than the no action alternative. The BLM welcomes comments on all preliminary alternatives as well as suggestions for additional alternatives.

Planning Criteria

The planning criteria guides the planning effort and lays the groundwork for effects analysis by identifying the preliminary issues and their analytical frameworks. Preliminary issues for the planning area have been identified by BLM personnel and from early engagement conducted for this planning effort with Federal, Tribal, State, and local agencies, and other stakeholders. The planning criteria are available for public review and comment at the BLM National NEPA Register (see ADDRESSES).

Public Scoping Process

This notice of intent initiates the scoping period and public review of the planning criteria, which guide the development and analysis of the RMP Amendment and EA.

The BLM does not intend to hold any public meetings, in-person or virtual, during the public scoping period. Should the BLM later determine to hold public meetings, the specific date(s) and location(s) of any meeting will be announced at least 15 days in advance through the local media, newspapers, and the project's web page on the BLM National NEPA Register.

Sale Notifications

The notification of the proposed RMP Amendment and EA and, if applicable, signed finding of no significant impact (FONSI) would begin a 30-day protest period subject to BLM Manual Section 2711.1 step 4(d) on the land-sale decision. The BLM Nevada State Director will review all protests and may sustain, vacate, or modify the RMP Amendment and land sale, in whole or in part. In the absence of any protests, the BLM may select the approved RMP Amendment alternative and prepare a decision record which would document the final determination of the Department of the Interior for the land sale.

Any other subsequent notices related to the RMP Amendment and land sale may also be published in the local newspaper.

Interdisciplinary Team

The BLM will use an interdisciplinary approach to develop the plan to consider the variety of resource issues and concerns identified. Specialists with expertise in the following disciplines will be involved in this planning effort: outdoor recreation, archaeology, lands and realty, sociology, cultural resources, paleontological resources, Native American coordination and consultation, environmental justice, social and economic values, recreational resources, visual resources, wilderness, geology, minerals, wastes—hazardous or solid, wildlife, threatened and endangered species, special status species, migratory birds, noise, wild horses and burros, water quality/quantity, wetlands and/or riparian zones, wild and scenic rivers, floodplains, grazing management, noxious weeds and invasive non-native species, human health and safety, soils, vegetation, forestry, air quality, and land use authorization.

Additional Information

The BLM will identify, analyze, and consider mitigation to address the reasonably foreseeable impacts to resources from the proposed plan amendment and all analyzed reasonable alternatives and, in accordance with 40 CFR 1502.14(e), include appropriate mitigation measures not already included in the proposed plan amendment or alternatives. Mitigation may include avoidance, minimization, rectification, reduction or elimination over time, and compensation; and it may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with local Tribes on a government-to-government basis in accordance with Executive Order 13175, BLM Manual 1780, and other Departmental policies. Tribal concerns, including impacts on Indian trust assets and potential impacts to cultural resources, will be given due consideration. Federal, State, and local agencies, along with Indian Tribal Nations and stakeholders that may be interested in or affected by the proposed sale of public land in Nye County, Nevada and the proposed RMP Amendment, and accompanying Record of Decision that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9, 43 CFR 1610.2, and 43 CFR 2710)

Jon K. Raby,
State Director.

[FR Doc. 2024-14176 Filed 6-27-24; 8:45 am]

BILLING CODE 4331-21-P